DEPARTMENT OF COMMERCE

International Trade Administration

[C-357-821, and C-560-831]

Biodiesel From Argentina and Indonesia: Initiation of Countervailing Duty Investigations

AGENCY: Enforcement and Compliance, International Trade Administration, Department of Commerce.

DATES: Effective April 12, 2017.

FOR FURTHER INFORMATION CONTACT: Joseph Traw (Indonesia) at (202) 482-6079; or Spencer Toubia (Argentina) at (202) 482-0123, AD/CVD Operations, Enforcement and Compliance, International Trade Administration, U.S. Department of Commerce, 1401 Constitution Avenue NW., Washington, DC 20230.

SUPPLEMENTARY INFORMATION:

The Petitions

On March 23, 2017, the Department of Commerce (the Department) received countervailing duty (CVD) petitions ¹ concerning imports of biodiesel from Argentina and Indonesia, filed in proper form on behalf of the National Biodiesel Board Fair Trade Coalition (the petitioner), which is an ad hoc association comprised of domestic producers of biodiesel, as well as one trade association.² The Petitions were accompanied by antidumping duty (AD) petitions on biodiesel from Argentina and Indonesia.³

¹ See Biodiesel from Argentina and Indonesia; Antidumping and Countervailing Duty Petitions (the Petitions).

² See Volume I of the Petitions, at 3 and Exhibit GEN-03; see also Biodiesel from Argentina and Indonesia: Amendment of Petitions, April 10, 2017 (April 17, 2017, Amendment), at 1 and Exhibit GEN-SUPP-08.

³ See the Petitions.

On March 28 and 29, 2017, and April 3, 2017, the Department requested additional information and clarification of certain areas of the Petitions.⁴ The petitioner filed responses to these requests on March 31, 2017, and April 4, 2017.⁵ On April 7, 2017, in consultations the Department held with respect to the CVD petition, the Government of Indonesia (GOI) provided comments on industry support and requested the Department poll the industry to determine industry support.⁶ On April 10, 2017, Cámara Argentina de Biocombustibles (CARBIO) and certain individual Argentine exporters ⁷ submitted comments regarding industry support and requested the Department extend its initiation decision by 20 days to poll the industry.⁸ On April 10, 2017, the petitioner filed an amendment to the Petitions.⁹

⁴ See Letter from the Department, “Petition for the Imposition of Antidumping and Countervailing Duties on Imports of Biodiesel from Argentina and Indonesia: Supplemental Questions,” March 28, 2016 (General Issues Supplemental Questionnaire); see also Letter from the Department, “Petition for the Imposition of Countervailing Duties on Imports of Biodiesel from Indonesia: Supplemental Questions,” March 28, 2017; Letter from the Department, “Petition for the Imposition of Countervailing Duties on Imports of Biodiesel from Argentina: Supplemental Questions,” March 28, 2017.

⁵ See Letter from the petitioner, “Biodiesel from Argentina and Indonesia: Amendment of Petitions and Response to the Department's Supplemental Questionnaires,” March 31, 2017 (Petition Supplement). On April 11, 2017, the petitioner filed company certifications relating to the Petition Supplement. See Letter from the petitioner, “Biodiesel from Argentina and Indonesia: Company Certifications of March 31, 2017 Petition Amendment,” April 11, 2017.

⁶ See Memorandum from the Department, “Countervailing Duty Petition on Biodiesel from Indonesia: Consultations with the Government of Indonesia,” April 10, 2017 (Consultation Memorandum), which references the GOI comments.

⁷ The individual Argentine exporters are Aceitera General Deheza S.A., Bunge Argentina S.A., Cargill S.A.C.I, COFCO Argentina S.A., LDC Argentina S.A., Oleaginosa Moreno Hermanos S.A., Molinos Agro S.A., Renova S.A., and Vicentin S.A.I.C.

⁸ See CARBIO's Request to Postpone Initiation, April 10, 2017 (CARBIO Letter).

⁹ See April 10, 2017, Amendment.

In accordance with section 702(b)(1) of the Tariff Act of 1930, as amended (the Act), the petitioner alleges that the Governments of Argentina (GOA) and Indonesia (GOI) are providing countervailable subsidies, within the meaning of sections 701 and 771(5) of the Act, to imports of biodiesel from Argentina and Indonesia, respectively, and that such imports are materially injuring, or threatening material injury to, an industry in the United States. Also, consistent with section 702(b)(1) of the Act and 19 CFR 351.202(b), for those alleged programs on which we are initiating a CVD investigation, the petitioner states that the Petitions are accompanied by information reasonably available to the petitioner supporting its allegations.

The Department finds that the petitioner filed the Petitions on behalf of the domestic industry because the petitioner is an interested party as defined in section 771(9)(F) of the Act. The Department also finds that the petitioner demonstrated sufficient industry support with respect to the initiation of the CVD investigations that the petitioner is requesting.¹⁰

¹⁰ See “Determination of Industry Support for the Petition” section, below.

Period of Investigation

Because the Petitions were filed on March 23, 2017, the period of investigation (POI) for each investigation is, pursuant to 19 CFR 351.204(b)(2), January 1, 2016, through December 31, 2016.

Scope of the Investigation

The product covered by these investigations is biodiesel from Argentina and Indonesia. For a full description of the scope of these investigations, see the “Scope of the Investigations,” at Appendix I of this notice.

Comments on Scope of the Investigations

During our review of the Petitions, the Department issued questions to, and received responses from, the petitioner pertaining to the proposed scope to ensure that the scope language in the Petitions would be an accurate reflection of the products for which the domestic industry is seeking relief.¹¹

¹¹ See General Issues Supplemental Questionnaire; see also Petition Supplement.

As discussed in the preamble to the Department's regulations,¹² we are setting aside a period for interested parties to raise issues regarding product coverage (i.e., scope). The Department will consider all comments received from interested parties and, if necessary, will consult with the interested parties prior to the issuance of the preliminary determinations. If scope comments include factual information,¹³ all such factual information should be limited to public information. In order to facilitate preparation of its questionnaires, the Department requests all interested parties to submit such comments by 5:00 p.m. Eastern Time (ET) on May 2, 2017, which is 20 calendar days from the signature date of this notice. Any rebuttal comments, which may include public factual information, must be filed by 5:00 p.m. ET on May 12, 2017, which is 10 calendar days after the initial comments. All such comments must be filed on the records of each of the concurrent AD and CVD investigations.

¹² See Antidumping Duties; Countervailing Duties; Final Rule, 62 FR 27296, 27323 (May 19, 1997).

¹³ See 19 CFR 351.102(b)(21).

The Department requests that any factual information the parties consider relevant to the scope of the investigation be submitted during this time period. However, if a party subsequently finds that additional factual information pertaining to the scope of the investigations may be relevant, the party may contact the Department and request permission to submit the additional information. As stated above, all such comments must be filed on the records of each of the concurrent AD and CVD investigations.

Filing Requirements

All submissions to the Department must be filed electronically using Enforcement and Compliance's Antidumping and Countervailing Duty Centralized Electronic Service System (ACCESS).¹⁴ An electronically filed document must be received successfully in its entirety by the time and date it is due. Documents excepted from the electronic submission requirements must be filed manually (i.e., in paper form) with Enforcement and Compliance's APO/Dockets Unit, Room 18022, U.S. Department of Commerce, 1401 Constitution Avenue NW., Washington, DC 20230, and stamped with the date and time of receipt by the applicable deadlines.

¹⁴ See 19 CFR 351.303 (describing general filing requirements); see also Antidumping and Countervailing Duty Proceedings: Electronic Filing Procedures; Administrative Protective Order Procedures, 76 FR 39263 (July 6, 2011) (providing details of the Department's electronic filing requirements, which went into effect on August 5, 2011); Enforcement and Compliance; Change of Electronic Filing System Name, 79 FR 69046 (November 20, 2014). Information on help using ACCESS can be found at https://access.trade.gov/help.aspx and a handbook can be found at https://access.trade.gov/help/Handbook%20on%20Electronic%20Filling%20Procedures.pdf.

Consultations

Pursuant to section 702(b)(4)(A)(i) of the Act, the Department notified representatives of the GOA and GOI of the receipt of the Petitions. Also, in accordance with section 702(b)(4)(A)(ii) of the Act, the Department provided representatives of the GOA and GOI the opportunity for consultations with respect to the CVD Petitions. Consultations with the GOA were held at the Department's main building on April 5, 2017. Consultations with the GOI were held at the Department's main building on April 7, 2017. All invitation letters and memoranda regarding these consultations are on file electronically via ACCESS.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product,¹⁵ they do so for different purposes and pursuant to a separate and distinct authority. In addition, the Department's determination is subject to limitations of time and information. Although this may result in different definitions of the like product, such differences do not render the decision of either agency contrary to law.¹⁶

¹⁵ See section 771(10) of the Act.

¹⁶ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the Petitions).

With regard to the domestic like product, the petitioner does not offer a definition of the domestic like product distinct from the scope of the investigations. Based on our analysis of the information submitted on the record, we have determined that biodiesel, as defined in the scope, constitutes a single domestic like product and we have analyzed industry support in terms of that domestic like product.¹⁷

¹⁷ For a discussion of the domestic like product analysis in this case, see Countervailing Duty Investigation Initiation Checklist: Biodiesel from Argentina (Argentina CVD Initiation Checklist), at Attachment II, Analysis of Industry Support for the Antidumping and Countervailing Duty Petitions Covering Biodiesel from Argentina and Indonesia, (Attachment II); and Countervailing Duty Investigation Initiation Checklist: Biodiesel from Indonesia (Indonesia CVD Initiation Checklist), at Attachment II. These checklists are dated concurrently with this notice and on file electronically via ACCESS. Access to documents filed via ACCESS is also available in the Central Records Unit, Room B8024 of the main Department of Commerce building.

In determining whether the petitioner has standing under section 702(c)(4)(A) of the Act, we considered the industry support data contained in the Petitions with reference to the domestic like product as defined in the “Scope of the Investigations,” in Appendix I of this notice. The petitioner provided 2016 domestic like product production data for U.S. producers that are known to support the Petitions. To establish total production of the domestic like product in 2016, the petitioner provided data from the February 2017 Monthly Biodiesel Production report (which included total 2016 production of biodiesel in the United States) published by the U.S. Energy Information Administration (the statistical and analytical agency within the U.S. Department of Energy). To establish industry support, the petitioner compared the production of companies supporting the Petitions to the total 2016 production of the domestic like product for the entire domestic industry.¹⁸ We relied on data the petitioner provided for purposes of measuring industry support.¹⁹

¹⁸ See Volume I of the Petitions, at 5-7, and Volume II of the Petitions, at Exhibits GEN-05—GEN-07.

¹⁹ Id. For further discussion, see Argentina CVD Initiation Checklist and Indonesia CVD Initiation Checklist, at Attachment II.

On April 7, 2017, we received comments on industry support from the GOI.²⁰ On April 10, 2017, we received comments from CARBIO and certain individual Argentine exporters.²¹ For further discussion of these comments, see the Indonesia CVD Initiation Checklist, at Attachment II and the Argentina CVD Initiation Checklist, at Attachment II.

²⁰ See Consultation Memorandum.

²¹ See CARBIO Letter.

Our review of the data provided in the Petitions, Petition Supplement, letter from the GOI, letter from CARBIO and certain individual Argentine exporters, and other information readily available to the Department indicates that the petitioner has established industry support for the Petitions.²² First, the Petitions established support from domestic producers (or workers) accounting for more than 50 percent of the total production of the domestic like product and, as such, the Department is not required to take further action in order to evaluate industry support (e.g., polling).²³ Second, the domestic producers (or workers) have met the statutory criteria for industry support under section 702(c)(4)(A)(i) of the Act because the domestic producers (or workers) who support the Petitions account for at least 25 percent of the total production of the domestic like product.²⁴ Finally, the domestic producers (or workers) have met the statutory criteria for industry support under section 702(c)(4)(A)(ii) of the Act because the domestic producers (or workers) who support the Petitions account for more than 50 percent of the production of the domestic like product produced by that portion of the industry expressing support for, or opposition to, the Petitions.²⁵ Accordingly, the Department determines that the Petitions were filed on behalf of the domestic industry within the meaning of section 702(b)(1) of the Act.

²² See Argentina CVD Initiation Checklist and Indonesia CVD Initiation Checklist, at Attachment II.

²³ See section 702(c)(4)(D) of the Act; see also Argentina CVD Initiation Checklist and Indonesia CVD Initiation Checklist, at Attachment II.

²⁴ See Argentina CVD Initiation Checklist and Indonesia CVD Initiation Checklist, at Attachment II.

²⁵ Id.

The Department finds that the petitioner filed the Petitions on behalf of the domestic industry because it is an interested party as defined in section 771(9)(F) of the Act and it has demonstrated sufficient industry support with respect to the CVD investigations that it is requesting that the Department initiate.²⁶

²⁶ Id.

Injury Test

Because Argentina and Indonesia are “Subsidies Agreement Countries” within the meaning of section 701(b) of the Act, section 701(a)(2) of the Act applies to these investigations. Accordingly, the ITC must determine whether imports of the subject merchandise from Argentina and Indonesia materially injure, or threaten material injury to, a U.S. industry.

Allegations and Evidence of Material Injury and Causation

The petitioner alleges that imports of the subject merchandise are benefitting from countervailable subsidies and that such imports are causing, or threaten to cause, material injury to the U.S. industry producing the domestic like product. In CVD petitions, section 771(24)(A) of the Act provides that imports of subject merchandise must exceed the negligibility threshold of three percent, except that imports of subject merchandise from developing countries in CVD investigations must exceed the negligibility threshold of four percent, pursuant to section 771(24)(B) of the Act. The petitioner demonstrates that imports from Argentina and Indonesia, which have been designated as developing and least-developed countries under sections 771(36)(A) and 771(36)(B) of the Act, respectively, exceed the four percent negligibility threshold provided for under section 771(24)(B) of the Act.²⁷

²⁷ See Volume I of the Petitions, at 97-98; see also Volume I of the Petition Supplements, at 5-8 and Volume II of the Petition Supplements, at Exhibits GEN-SUPP-04 and GEN-SUPP-7.

The petitioner contends that the industry's injured condition is illustrated by reduced market share; underselling and price suppression or depression; lost sales and revenues; negative impact on the domestic industry's operations and performance; and decline in financial performance.²⁸ We have assessed the allegations and supporting evidence regarding material injury, threat of material injury, and causation, and we have determined that these allegations are properly supported by adequate evidence, and meet the statutory requirements for initiation.²⁹

²⁸ See Volume I of the Petitions, at 1-3, 92-117 and Volume II of the Petitions, at Exhibits GEN-05, GEN-08 through GEN-10, GEN-12, and GEN-20 through GEN-32; see also Biodiesel from Argentina and Indonesia; Antidumping and Countervailing Duty Petition Amendment, dated March 24, 2017 (Lost Sales and Revenues Exhibit), at Exhibit A; and Volume I of the Petition Supplements, at 5-8 and Volume II of the Petition Supplements, at Exhibits GEN-SUPP-04 through GEN-SUPP-07.

²⁹ See Argentina CVD Initiation Checklist, at Attachment III, Analysis of Allegations and Evidence of Material Injury and Causation for the Antidumping and Countervailing Duty Petitions Covering Biodiesel from Argentina and Indonesia (Attachment III); see also Indonesia CVD Initiation Checklist, at Attachment III.

Subsidy Allegations

Argentina

Based on our review of the Petition, we find that there is sufficient information to initiate a CVD investigation on ten of ten of the alleged programs. For a full discussion of the basis for our decision to initiate on each program, see the Argentina CVD Initiation Checklist.

Indonesia

Based on our review of the petition, we find that there is sufficient information to initiate a CVD investigation on eight of eight of the alleged programs. For a full discussion of the basis for our decision to initiate on each program, see the Indonesian CVD Initiation Checklist.

Initiation of CVD Investigations

Section 702(b)(1) of the Act requires the Department to initiate a CVD investigation whenever an interested party files a CVD petition on behalf of an industry that: (1) Alleges the elements necessary for an imposition of a duty under section 701(a) of the Act; and (2) is accompanied by information reasonably available to the petitioner supporting the allegations.

The petitioner alleges that producers/exporters of biodiesel in Argentina and Indonesia benefit from countervailable subsidies bestowed by the governments of these countries, respectively. The Department examined the Petitions and finds that they comply with the requirements of section 702(b)(1) of the Act. Therefore, we are initiating CVD investigations to determine whether manufacturers, producers, and/or exporters of biodiesel from Argentina and Indonesia receive countervailable subsidies from the governments of these countries, respectively. In accordance with section 701(b)(1)(A) of the Act and 19 CFR 351.205(b)(1), unless postponed, we intend to make our preliminary determinations no later than 65 days after the date of this initiation.

Under the Trade Preferences Extension Act of 2015, numerous amendments to the AD and CVD laws were made.³⁰ The 2015 law does not specify dates of application for those amendments. On August 6, 2015, the Department published an interpretative rule, in which it announced the applicability dates for each amendment to the Act, except for amendments contained in section 771(7) of the Act, which relate to determinations of material injury by the ITC.³¹ The amendments to sections 776 and 782 of the Act are applicable to all determinations made on or after August 6, 2015, and, therefore, apply to these CVD investigations.³²

³⁰ See Trade Preferences Extension Act of 2015, Public Law 114-27, 129 Stat. 362 (2015).

³¹ See Dates of Application of Amendments to the Antidumping and Countervailing Duty Laws Made by the Trade Preferences Extension Act of 2015, 80 FR 46793 (August 6, 2015) (Applicability Notice). The 2015 amendments may be found at https://www.congress.gov/bill/114th-congress/house-bill/1295/text/pl.

³² See Applicability Notice, 80 FR at 46794-95.

Respondent Selection

The petitioner identified 16 companies in Argentina and five companies in Indonesia, as producers/exporters of biodiesel.³³ Following standard practice in CVD investigations, in the event the Department determines the number of companies subject to each investigation is large, the Department intends to review U.S. Customs and Border Protection (CBP) data for U.S. imports under the appropriate HTSUS numbers listed with the “Scope of the Investigations,” in Appendix I, below, and if it determines that it cannot individually examine each company based upon the Department's resources, then the Department will select respondents based on that data. We also intend to release the CBP data under Administrative Protective Order (APO) to all parties with access to information protected by APO on the record within five business days of publication of this Federal Register notice. Comments regarding the CBP data and respondent selection should be submitted seven calendar days after the placement of the CBP data on the record of each respective investigation. Parties wishing to submit rebuttal comments should submit those comments five calendar days after the deadline for the initial comments.

³³ See Volume I of the Petition, at 14-15; see also Volume II of the Petition, at Exhibits GEN-17, GEN-18.

Comments for the above-referenced investigations must be filed electronically using ACCESS. An electronically-filed document must be received successfully in its entirety by ACCESS no later than 5:00 p.m. ET on the date noted above. We intend to make our decision regarding respondent selection within 20 days of publication of this notice. Interested parties must submit applications for disclosure under APO in accordance with 19 CFR 351.305(b). Instructions for filing such applications may be found on the Department's Web site at http://enforcement.trade.gov/apo.

Distribution of Copies of the Petition

In accordance with section 702(b)(4)(A)(i) of the Act and 19 CFR 351.202(f), copies of the public version of the Petitions have been provided to the GOA and GOI via ACCESS. To the extent practicable, we will attempt to provide a copy of the public version of the Petitions to each known exporter named in the Petitions, as provided under 19 CFR 351.203(c)(2).

ITC Notification

We will notify the ITC of our initiation, as required by section 702(d) of the Act.

Preliminary Determinations by the ITC

The ITC will preliminarily determine, within 45 days after the date on which the Petitions were filed, whether there is a reasonable indication that imports of biodiesel from Argentina and/or Indonesia are materially injuring, or threatening material injury to, a U.S. industry.³⁴ A negative ITC determination for any country will result in the investigation being terminated with respect to that country; ³⁵ otherwise, these investigations will proceed according to statutory and regulatory time limits.

³⁴ See section 703(a)(2) of the Act.

³⁵ See section 703(a)(1) of the Act.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). Any party, when submitting factual information, to specify under which subsection of 19 CFR 351.102(b)(21) the information is being submitted and, if the information is submitted to rebut, clarify, or correct factual information already on the record, to provide an explanation identifying the information already on the record that the factual information seeks to rebut, clarify, or correct. Time limits for the submission of factual information are addressed in 19 CFR 351.301, which provides specific time limits based on the type of factual information being submitted. Parties should review the regulations prior to submitting factual information in these investigations.

Extension of Time Limits

Parties may request an extension of time limits before the expiration of a time limit established under Part 351, or as otherwise specified by the Secretary. In general, an extension request will be considered untimely if it is filed after the expiration of the time limit established under Part 351 expires. For submissions that are due from multiple parties simultaneously, an extension request will be considered untimely if it is filed after 10:00 a.m. on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.³⁶ Parties are hereby reminded that revised certification requirements are in effect for company/government officials, as well as their representatives. Investigations initiated on the basis of petitions filed on or after August 16, 2013, and other segments of any AD or CVD proceedings initiated on or after August 16, 2013, should use the formats for the revised certifications provided at the end of the Final Rule.³⁷ The Department intends to reject factual submissions if the submitting party does not comply with the applicable revised certification requirements.

³⁶ See section 782(b) of the Act.

³⁷ See Certification of Factual Information to Import Administration During Antidumping and Countervailing Duty Proceedings, 78 FR 42678 (July 17, 2013) (“Final Rule”); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in this investigation should ensure that they meet the requirements of these procedures (e.g., the filing of letters of appearance as discussed at 19 CFR 351.103(d)).

This notice is issued and published pursuant to sections 702 and 777(i) of the Act and 19 CFR 351.203(c).

Dated: April 12, 2017.
Ronald K. Lorentzen,
Acting Assistant Secretary for Enforcement and Compliance.

Appendix I

Scope of the Investigations

The product covered by these investigations is biodiesel, which is a fuel comprised of mono-alkyl esters of long chain fatty acids derived from vegetable oils or animal fats, including biologically-based waste oils or greases, and other biologically-based oil or fat sources. The investigations cover biodiesel in pure form (B100) as well as fuel mixtures containing at least 99 percent biodiesel by volume (B99). For fuel mixtures containing less than 99 percent biodiesel by volume, only the biodiesel component of the mixture is covered by the scope of the investigations.

Biodiesel is generally produced to American Society for Testing and Materials International (ASTM) D6751 specifications, but it can also be made to other specifications. Biodiesel commonly has one of the following Chemical Abstracts Service (CAS) numbers, generally depending upon the feedstock used: 67784-80-9 (soybean oil methyl esters); 91051-34-2 (palm oil methyl esters); 91051-32-0 (palm kernel oil methyl esters); 73891-99-3 (rapeseed oil methyl esters); 61788-61-2 (tallow methyl esters); 68990-52-3 (vegetable oil methyl esters); 129828-16-6 (canola oil methyl esters); 67762-26-9 (unsaturated alkylcarboxylic acid methyl ester); or 68937-84-8 (fatty acids, C12-C18, methyl ester).

The B100 product subject to the investigations is currently classifiable under subheading 3826.00.1000 of the Harmonized Tariff Schedule of the United States (HTSUS), while the B99 product is currently classifiable under HTSUS subheading 3826.00.3000. Although the HTSUS subheadings, ASTM specifications, and CAS numbers are provided for convenience and customs purposes, the written description of the scope is dispositive.

[FR Doc. 2017-07901 Filed 4-18-17; 8:45 am]

BILLING CODE 3510-DS-P